DEPARTMENT OF TRANSPORTATION

Federal Highway Administration

Environmental Impact Statement: Smith County, Texas

AGENCY: Texas Department of Transportation (TxDOT), Federal Highway Administration (FHWA), Department of Transportation.

ACTION: Federal notice of intent to prepare an Environmental Impact Statement (EIS).

SUMMARY: The FHWA, on behalf of TxDOT, is issuing this notice to advise the public that an EIS will be prepared for a proposed transportation project to construct Toll 49, Segment 6 located partially within and just east of the City of Tyler in Smith County, Texas. The project is sponsored by the North East Texas Regional Mobility Authority.

FOR FURTHER INFORMATION CONTACT: Scott Ford, Project Delivery Manager, Environmental Affairs Division, Texas Department of Transportation, 125 E 11th Street, Austin, Texas 78701-2483, telephone (512) 416-2687, email: scott.ford@txdot.gov. TxDOT's normal business hours are 8:00 a.m. to 5 p.m. (central time), Monday through Friday.

SUPPLEMENTARY INFORMATION: The environmental review, consultation, and other actions required by applicable Federal environmental laws for this project are being, or have been, carried out by TxDOT pursuant to 23 U.S.C. 327 and a Memorandum of Understanding dated December 9, 2019, and executed by FHWA and TxDOT.

Toll 49, Segment 6 will be an extension of Toll 49 from the Toll 49, Segment 5 eastern terminus at State Highway (SH) 110 to United States (US) 271. There is no existing facility; therefore, the project is proposed on a new location. The proposed roadway will consist of an interim two-lane facility (one lane in each direction) with an intermittent single passing lane that alternates direction along the length of the corridor (Super 2) and an ultimate four-lane divided highway.

The EIS will evaluate a range of build alternatives and a no-build alternative. Possible build alternatives include three route options identified in the Toll 49, Segment 6 Feasibility Study completed in November 2019. The three route options begin at the Toll 49, Segment 5 terminus at SH 110, end at different locations on US 271, and range from 10 to 13 miles long. TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A public scoping meeting is planned for Spring 2020 at a location to be determined. An agency scoping meeting will also be held with participating and cooperating agencies. The agency and public scoping meetings will provide an opportunity for the participating/cooperating agencies and public to review and comment on the draft coordination plan and schedule, the project purpose and need, the range of alternatives, and methodologies and level of detail for analyzing alternatives. In addition to the agency and public scoping meetings, a public hearing will be held. Public notice will be given of the time and place of the meetings and hearing.

(Catalog of Federal Domestic Assistance Program Number 20.205, Highway Planning and Construction.)

Issued on: March 12, 2020.
Michael T. Leary,
Director, Planning and Program Development, Federal Highway Administration.

[FR Doc. 2020-05601 Filed 3-26-20; 8:45 am]

BILLING CODE 4910-22-P